DEPARTMENT OF ENERGY

Fusion Energy Sciences Advisory Committee

AGENCY: Office of Science, Department of Energy.

ACTION: Notice of Open Meeting.

SUMMARY: This notice announces a meeting of the Fusion Energy Sciences Advisory Committee (FESAC). The Federal Advisory Committee Act (Pub. L. 92-463, 86 Stat. 770) requires that public notice of these meetings be announced in the Federal Register.

DATES: January 13, 2016, 8:30 a.m. to 6:00 p.m., January 14, 2016, 8:30 a.m. to 12:00 noon.

ADDRESSES: Bethesda North Marriott Hotel & Conference Center, 5701 Marinelli Road, North Bethesda, MD 20852.

FOR FURTHER INFORMATION CONTACT: Edmund J. Synakowski, Designated Federal Officer, Office of Fusion Energy Sciences; U.S. Department of Energy; 1000 Independence Avenue SW., Washington, DC 20585-1290; Telephone: (301) 903-4941.

SUPPLEMENTARY INFORMATION:

Purpose of the Meeting: To discuss the series of technical workshops held in 2015. These workshops were initiated by the Office of Fusion Energy Sciences (FES) to seek community engagement and input for future program planning activities.

Tentative Agenda Items

• Discussion of the workshops on Integrated Simulations for Magnetic Fusion Energy Sciences, Plasma Transients, Plasma-Materials Interactions, and Plasma Science Frontiers.

• Perspective on Science and Energy at DOE.

• Current Status and Future Plans for ITER.

• FES Perspective.

• Public Comment.

• Adjourn.

Note: Remote attendance of the FESAC meeting will be possible via Zoom. Instructions can be found on FESAC Web site at http://science.energy.gov/fes/fesac/meetings/ or by contacting Dr. Samuel J. Barish by email at sam.barish@science.doe.gov or by phone (301) 903-2917.

Public Participation: The meeting is open to the public. If you would like to file a written statement with the Committee, you may do so either before or after the meeting. If you would like to make an oral statement regarding any of the items on the agenda, you should contact Dr. Ed Synakowski at (301) 903-8584 (fax) or ed.synakowski@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 30 days at the Freedom of Information Public Reading Room; 1G-033, Forrestal Building; 1000 Independence Avenue SW., Washington, DC 20585; between 9:00 a.m. and 4:00 p.m., Monday through Friday, except holidays; and on the Fusion Energy Sciences Advisory Committee Web site at http://science.energy.gov/fes/fesac/.

Issued at Washington, DC, on December 11, 2015.
LaTanya R. Butler,
Deputy Committee Management Officer.

[FR Doc. 2015-31792 Filed 12-16-15; 8:45 am]

BILLING CODE 6450-01-P